DEPARTMENT OF COMMERCE

Census Bureau

Proposed Information Collection; Comment Request; Report of Building or Zoning Permits Issued for New Privately-Owned Housing Units (Building Permits Survey)

AGENCY: U.S. Census Bureau, Commerce.

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: To ensure consideration, written comments must be submitted on or before November 30, 2009.

ADDRESSES: Direct all written comments to Diana Hynek, Departmental Paperwork Clearance Officer, Department of Commerce, Room 7845, 14th and Constitution Avenue, NW., Washington, DC 20230 (or via the Internet at dHynek@doc.gov).

FOR FURTHER INFORMATION CONTACT: Requests for additional information or copies of the information collection instrument(s) and instructions should be directed to Erica Filipek, U.S. Census Bureau, MCD, CENHQ Room 7K181, 4600 Silver Hill Road, Washington, DC 20233, telephone (301) 763-5161 (or via the Internet at Erica.Mary.Filipek@census.gov).

SUPPLEMENTARY INFORMATION:

I. Abstract

The Census Bureau plans to request a three year extension of a currently approved collection of the Form C-404, Building Permits Survey. The Census Bureau produces statistics used to monitor activity in the large and dynamic construction industry. Given the importance of this industry, several of the statistical series are key economic indicators. Two such series are (a) Housing Units Authorized by Building Permits and (b) Housing Starts. Both are based on data from samples of permit-issuing places. These statistics help State and local governments and the Federal Government, as well as private industry, to analyze this important sector of the economy.

The Census Bureau uses Form C-404 to collect data to provide estimates of the number and valuation of new residential housing units authorized by building permits. The current form is titled “Report of New Privately-Owned Residential Building or Zoning Permits Issued”. We plan to change the title to “Report of Building or Zoning Permits Issued for New Privately-Owned Housing Units” to clarify the data being requested. We use the data, a component of the index of leading economic indicators, to estimate the number of housing units started, completed, and sold, if single-family, and to select samples for the Census Bureau's demographic surveys. The Census Bureau also uses the detailed geographic data collected from State and local officials on new residential construction authorized by building permits in the development of annual population estimates which are used by government agencies to allocate funding and other resources to local areas. Policymakers, planners, businessmen/women, and others also use the detailed geographic data to monitor growth and plan for local services and to develop production and marketing plans. The Building Permits Survey is the only source of statistics on residential construction for States and smaller geographic areas. Building permits are public records so the information is not subject to disclosure restrictions.

II. Method of Collection

The Census Bureau collects this information by mail; respondents return forms by mail or fax. Some respondents send electronic files or printouts of permit information in lieu of completing the form. We are currently developing a system to provide an option for Web-based reporting which is scheduled to be operational in 2010.

The survey universe is comprised of approximately 19,375 local governments that issue building permits. Monthly, we collect this information by mail for about 8,200 permit-issuing jurisdictions and via electronic files or printouts of permits for about 625 jurisdictions. Annually, we collect this information by mail for the remaining 10,550 jurisdictions.

III. Data

OMB Number: 0607-0094.

Form Number: C-404.

Type of Review: Regular submission.

Affected Public: State and Local Governments.

Estimated Number of Respondents: 19,375.

Estimated Time per Response: 8 minutes for monthly respondents who report by mailing or faxing the form, 3 minutes for monthly respondents who send electronic files or printouts, and 23 minutes for annual respondents who report by mailing or faxing the form.

Estimated Total Annual Burden Hours: 17,539.

Estimated Total Annual Cost: $420,745.

Respondent's Obligation: Voluntary.

Legal Authority: Title 13, United States Code, Section 182.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: September 24, 2009.
Glenna Mickelson,
Management Analyst, Office of the Chief Information Officer.

[FR Doc. E9-23530 Filed 9-29-09; 8:45 am]

BILLING CODE 3510-09-P